DEPARTMENT OF COMMERCE

International Trade Administration

[A-570-847]

Persulfates from the People's Republic of China: Notice of Final Results of Changed Circumstances Review

AGENCY: Import Administration, International Trade Administration, Department of Commerce.

EFFECTIVE DATE: December 5, 2003.

FOR FURTHER INFORMATION CONTACT: Mike Strollo or Patrick Connolly at (202) 482-0629 or (202) 482-1779, respectively, Office of AD/CVD Enforcement, Office 2, Import Administration, International Trade Administration, U.S. Department of Commerce, 14th Street and Constitution Avenue, NW, Washington, DC 20230.

SUMMARY: On October 10, 2003, the Department published a notice of preliminary results of changed circumstances review and preliminarily found that the factors of production of Degussa-AJ (Shanghai) Initiators Co., Ltd. (Degussa-AJ) had not changed substantially since Degussa AG's investment in Shanghai Ai Jian Reagent Works (AJ Works). Therefore, the Department determined at the preliminary results that it will consider in any relevant future revocation inquiry any administrative reviews in which Shanghai Ai Jian Import and Export Corporation (Ai Jian) procured its products exported to the United States from AJ Works. On October 14, 2003, the petitioner, FMC Corporation (FMC), submitted a case brief. After considering these comments, we continue to find that Degussa-AJ's factors of production have not changed substantially since Degussa AG's investment in AJ Works. As a result, the Department will consider in any future revocation inquiry any administrative reviews in which Ai Jian procured its products exported to the United States from AJ Works.

SUPPLEMENTARY INFORMATION:

Background

On October 10, 2003, the Department published in the Federal Register a notice of preliminary results of changed circumstances review for persulfates from the People's Republic of China (PRC). See Persulfates from the People's Republic of China: Notice of Preliminary Results of Changed Circumstances Review, 68 FR 58658 (Oct. 10, 2003). We gave interested parties 14 days to comment on our preliminary results. On October 24, 2003, FMC submitted a case brief. We received no other comments from interested parties on the Department's preliminary results.

Scope of Review

The products covered by this review are persulfates, including ammonium, potassium, and sodium persulfates. The chemical formula for these persulfates are, respectively, (NH4)2S2O8, K2S2O8, and Na2S2O8. Potassium persulfates are currently classifiable under subheading 2833.40.10 of the Harmonized Tariff Schedule of the United States (HTSUS). Sodium persulfates are classifiable under HTSUS subheading 2833.40.20. Ammonium and other persulfates are classifiable under HTSUS subheadings 2833.40.50 and 2833.40.60. Although the HTSUS subheadings are provided for convenience and customs purposes, the written description of the scope of this review is dispositive.

Analysis of Comments Received

All issues raised in the case briefs by parties to this changed circumstances review are addressed in the “Issues and Decision Memorandum” (Decision Memo) from Jeffrey May, Deputy Assistant Secretary, Group I, to James Jochum, Assistant Secretary for Import Administration, dated November 28, 2003, which is adopted by this notice. A list of the issues which parties have raised and to which we have responded, all of which are in the Decision Memo, is attached to this notice as an Appendix. Parties can find a complete discussion of all issues raised in this review and the corresponding recommendations in this public memorandum, which is on file in the Central Records Unit in Room B-099 of the main Commerce Building.

In addition, a complete version of the Decision Memo can be accessed directly on the Web at http://ia.ita.doc.gov. The paper copy and electronic version of the Decision Memo are identical in content.

Final Results

After our analysis of the comments received, we determine that Degussa-AJ's factors of production have not changed substantially since Degussa AG's investment in AJ Works. As a result, the Department will consider in any relevant future revocation inquiry any administrative reviews in which Ai Jian procured its products exported to the United States from AJ Works.

This notice is published in accordance with sections 751(b)(1) and (d) and 777(i) of the Act, and with 19 CFR 351.221(c)(3).

Dated: November 28, 2003.
James J. Jochum,
Assistant Secretary for Import Administration.

Appendix—Issues in Decision Memo

Comment 1: Whether the Department Must Make a Successor-in-Interest Determination in this Changed Circumstances Review

Comment 2: Whether Ai Jian May Use Reviews In Which it Sourced its Merchandise from AJ Works to Support a Revocation Request

Comment 3: Whether Ai Jian is Subject to a Combination Antidumping Duty Rate Based on the Exporter-Producer Combination of Ai Jian and AJ Works

[FR Doc. 03-30260 Filed 12-4-03; 8:45 am]

BILLING CODE 3510-DS-S